DEPARTMENT OF TRANSPORTATION

Federal Aviation Administration

14 CFR Part 39

[Docket No. FAA-2020-0585; Product Identifier 2019-SW-112-AD; Amendment 39-21297; AD 2020-22-01]

RIN 2120-AA64

Airworthiness Directives; Airbus Helicopters

AGENCY: Federal Aviation Administration (FAA), DOT.

ACTION: Final rule.

SUMMARY: The FAA is adopting a new airworthiness directive (AD) for all Airbus Helicopters Model AS332C, AS332C1, AS332L, and AS332L1 helicopters. This AD requires inspecting the affected parts and associated frame bores for discrepancies, applicable corrective actions, and reporting certain information if necessary. This AD was prompted by reports of corrosion on attachment screws and fittings fastening the main gearbox (MGB) suspension bars to the fuselage. The actions of this AD are intended to address an unsafe condition on these products.

DATES: This AD is effective December 7, 2020.

The Director of the Federal Register approved the incorporation by reference of certain documents listed in this AD as of December 7, 2020.

ADDRESSES: For service information identified in this final rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177. It is also available on the internet at https://www.regulations.gov by searching for and locating Docket No. FAA-2020-0585.

Examining the AD Docket

You may examine the AD docket on the internet at https://www.regulations.gov by searching for and locating Docket No. FAA-2020-0585; or in person at Docket Operations between 9 a.m. and 5 p.m., Monday through Friday, except Federal holidays. The AD docket contains this AD, the European Union Aviation Safety Agency (EASA) AD, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: Kathleen Arrigotti, Aerospace Engineer, Large Aircraft Section, International Validation Branch, FAA, 2200 South 216th St., Des Moines, WA 98198; telephone and fax 206-231-3218; email kathleen.arrigotti@faa.gov.

SUPPLEMENTARY INFORMATION:

Discussion

The FAA issued a notice of proposed rulemaking (NPRM) to amend 14 CFR part 39 by adding an AD that would apply to all Airbus Helicopters Model AS332C, AS332C1, AS332L, and AS332L1 helicopters. The NPRM published in the Federal Register on July 20, 2020 (85 FR 43749). The NPRM proposed to require accomplishing actions specified in the service information and sending certain inspection results to the manufacturer.

The NPRM was prompted by EASA AD No. 2019-0295, dated December 5, 2019, issued by EASA, which is the Technical Agent for the Member States of the European Union, to correct an unsafe condition for all Airbus Helicopters Model AS332C, AS332C1, AS332L, and AS332L1 helicopters. EASA advises that there were reports of corrosion on attachment screws and fittings fastening the rear MGB suspension bars, right and left hand sides, to the fuselage, and the attachment screws and fitting fastening the front MGB suspension bar to the fuselage. Subsequent investigation determined that during maintenance visits of an identified batch of helicopters between September 2012 and April 2019, application of compound sealant on MGB suspension bar attachment screws may not have been accomplished using the approved maintenance data. The EASA AD requires a one-time inspection of the affected parts, and depending on findings, accomplishment of applicable corrective actions. The compliance times vary depending on helicopter configuration.

For helicopters identified in Airbus Helicopters Alert Service Bulletin (ASB) AS332-53.02.05, Revision 1, dated March 2, 2020, the earliest inspection compliance time is within 100 flight hours or 6 months after the effective date of this AD, whichever occurs first. For helicopters identified in Airbus Helicopters ASB AS332-53.02.07, Revision 0, dated October 21, 2019, the earliest inspection compliance time is within 100 flight hours after the effective date of this AD.

For helicopters identified in Airbus Helicopters ASB AS332-53.02.05, Revision 1, dated March 2, 2020, the latest initial inspection compliance time is within 3,800 flight hours or 3 years and 6 months, whichever occurs first, since the last maintenance action at Airbus Helicopters Marignane. For helicopters identified in Airbus Helicopters ASB AS332-53.02.07, Revision 0, dated October 21, 2019, the latest initial inspection compliance time is within 3,800 flight hours since last removal.

The FAA is issuing this AD to address corrosion on attachment fittings and attachment screws for the MGB suspension bars. This condition, if not addressed, could lead to structural failure of the MGB attachment screws, resulting in detachment of MGB suspension bars from the fuselage and subsequent loss of control of the helicopter.

Comments

The FAA gave the public the opportunity to participate in developing this final rule, but the FAA did not receive any comments on the NPRM or on the determination of the cost to the public.

FAA's Determination

This product has been approved by EASA and is approved for operation in the United States. Pursuant to the FAA's bilateral agreement with the European Union, EASA has notified the FAA of the unsafe condition described in its AD. The FAA is issuing this AD after evaluating all of the information provided by EASA and determining the unsafe condition exists and is likely to exist or develop on other products of these same type design.

Related Service Information Under 1 CFR Part 51

Airbus Helicopters has issued ASB No. AS332-53.02.05, Revision 1, dated March 2, 2020; and ASB No. AS332-53.02.07, Revision 0, dated October 21, 2019, which specify procedures for inspecting the attachment fittings and attachment screws of the MGB suspension bars and their frame bores for discrepancies and corrective actions. This inspection includes an inspection of the attachment fittings and attachment screws of the MGB suspension bars for corrosion and an inspection of the attachment screws for evidence of sealing compound. The corrective actions include replacing or repairing corroded parts and replacing screws that have sealing compound on them. These documents are distinct since they apply to different helicopter models in different configurations.

This service information is reasonably available because the interested parties have access to it through their normal course of business or by the means identified in the ADDRESSES section.

Other Related Service Information

Airbus Helicopters has also issued ASB No. AS332-53.02.05, Revision 0, dated April 18, 2019, which specifies procedures for inspecting the attachment fittings and attachment screws of the MGB suspension bars and their frame bores for discrepancies and corrective actions.

Costs of Compliance

The FAA estimates that this AD affects 12 helicopters of U.S. Registry. Labor rates are estimated at $85 per work-hour. Based on these numbers, the FAA estimates that operators may incur the following costs in order to comply with this AD. To comply with this AD, the FAA estimates that it will take up to about 16 work-hours, for an estimated cost of $1,360 per helicopter and $16,320 for the U.S. fleet. The FAA estimates that it will take about 1 hour per helicopter to comply with the on-condition reporting requirement in this AD.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-22-01 Airbus Helicopters: Amendment 39-21297; Docket No. FAA-2020-0585; Product Identifier 2019-SW-112-AD.

(a) Effective Date

This airworthiness directive (AD) becomes effective December 7, 2020.

(b) Affected ADs

None.

(c) Applicability

This AD applies to all Airbus Helicopters Model AS332C, AS332C1, AS332L, and AS332L1 helicopters, certificated in any category.

(d) Subject

Joint Aircraft Service Component (JASC) Code: 5340, Fuselage main, attach fittings.

(e) Reason

This AD was prompted by reports of corrosion on attachment screws and fittings fastening the main gearbox (MGB) suspension bars to the fuselage. The FAA is issuing this AD to address corrosion on attachment fittings and attachment screws for the MGB suspension bars. This condition, if not addressed, could lead to structural failure of the MGB attachment screws, resulting in detachment of MGB suspension bars from the fuselage and subsequent loss of control of the helicopter.

(f) Compliance

You are responsible for performing each action required by this AD within the specified compliance time unless it has already been accomplished prior to that time.

(g) Definitions

Affected parts are attachment screws and fitting(s) fastening the parts identified in paragraphs (g)(1) and (2) of this AD.

(1) Rear MGB suspension bars, right and left sides, to the fuselage.

(2) Front MGB suspension bar to the fuselage.

(h) Inspection

Except as specified in paragraphs (j)(1) through (3) of this AD: Within the applicable compliance times identified in paragraph (h)(1) or (2) of this AD, inspect each affected part and its frame bores for discrepancies, in accordance with the Accomplishment Instructions, Section 3.B.2, of Airbus Helicopters Alert Service Bulletin (ASB) AS332-53.02.05, Revision 1, dated March 2, 2020; or Airbus Helicopters ASB AS332-53.02.07, Revision 0, dated October 21, 2019, as applicable. For the purposes of this inspection, a discrepancy may be indicated by corrosion on the MGB attachment fitting or by sealing compound on the attachment screws.

(1) Table 1 or 2, as applicable, of Section 1.E.2, “Compliance in service,” of Airbus Helicopters ASB AS332-53.02.05, Revision 1, dated March 2, 2020.

(2) Table 1 of Section 1.E.2, “Compliance in service,” of Airbus Helicopters ASB AS332-53.02.07, dated October 21, 2019.

(i) Corrective Action

Except as required by paragraph (j)(4) of this AD: If, during the inspection required by paragraph (h) of this AD, there is any discrepancy, before further flight, do the applicable corrective action (including replacing or repairing corroded parts and replacing screws that have sealing compound on them), in accordance with the Accomplishment Instructions, Section 3.B.2, of Airbus Helicopters ASB AS332-53.02.05, Revision 1, dated March 2, 2020; or ASB AS332-53.02.07, Revision 0, dated October 21, 2019, as applicable.

(j) Exceptions to Service Information Specifications

(1) Where Airbus Helicopters ASB AS332-53.02.05, Revision 1, dated March 2, 2020, uses the phrase “Revision 0 of this ASB issued on April 18, 2019,” this AD requires using “the effective date of this AD.”

(2) Where Airbus Helicopters ASB AS332-53.02.07, Revision 0, dated October 21, 2019, uses the phrase “receipt of this ASB,” this AD requires using “the effective date of this AD.”

(3) Where Airbus Helicopters ASB AS332-53.02.05, Revision 1, dated March 2, 2020; and ASB AS332-53.02.07, Revision 0, dated October 21, 2019, specify discarding parts, you are not required to discard parts.

(4) Where Airbus Helicopters ASB AS332-53.02.05, Revision 1, dated March 2, 2020; and ASB AS332-53.02.07, Revision 0, dated October 21, 2019, specify contacting Airbus Helicopters for repair instructions: This AD requires repair using a method approved by the Manager, Rotorcraft Standards Branch, FAA. The Manager's approval letter must specifically refer to this AD.

(k) Reporting

If, during the inspection required by paragraph (h) of this AD, there is any discrepancy, report the inspection results to Airbus Helicopters at the applicable time specified in paragraph (k)(1) or (2) of this AD. The report should include the information specified in Appendix 4.A. of Airbus Helicopters ASB AS332-53.02.05, Revision 1, dated March 2, 2020; or ASB AS332-53.02.07, Revision 0, dated October 21, 2019, as applicable.

(1) If the inspection was done on or after the effective date of this AD: Submit the report within 30 days after the inspection.

(2) If the inspection was done before the effective date of this AD: Submit the report within 30 days after the effective date of this AD.

(l) Credit for Previous Actions

For helicopters identified in Airbus Helicopters ASB AS332-53.02.05, Revision 1, dated March 2, 2020: This paragraph provides credit for actions required by paragraphs (g) and (h) of this AD, if those actions were performed before the effective date of this AD using Airbus Helicopters ASB AS332-53.02.05, Revision 0, dated April 18, 2019.

(m) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(n) Alternative Methods of Compliance (AMOCs)

(1) The Manager, Rotorcraft Standards Branch, FAA, may approve AMOCs for this AD. Send your proposal to: Manager, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(o) Related Information

(1) The subject of this AD is addressed in European Union Aviation Safety Agency (EASA) AD No. 2019-0295, dated December 5, 2019. You may view the EASA AD on the internet at https://www.regulations.gov in Docket No. FAA-2020-0585.

(2) For service information identified in this AD, contact Airbus Helicopters, 2701 N Forum Drive, Grand Prairie, TX 75052; telephone 972-641-0000 or 800-232-0323; fax 972-641-3775; or at https://www.airbus.com/helicopters/services/technical-support.html. You may view a copy of the service information at the FAA, Office of the Regional Counsel, Southwest Region, 10101 Hillwood Pkwy., Room 6N-321, Fort Worth, TX 76177.

(p) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin (ASB) AS332-53.02.05, Revision 1, dated March 2, 2020.

(ii) Airbus Helicopters ASB AS332-53.02.07, Revision 0, dated October 21, 2019.

(3) For service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on October 13, 2020.
Lance T. Gant,
Director, Compliance & Airworthiness Division, Aircraft Certification Service.

[FR Doc. 2020-23976 Filed 10-30-20; 8:45 am]

BILLING CODE 4910-13-P